DEPARTMENT OF TRANSPORTATION

Federal Motor Carrier Safety Administration

[Docket No. FMCSA-2020-0173]

Parts and Accessories Necessary for Safe Operation; Application for an Exemption From Netradyne, Inc.

AGENCY: Federal Motor Carrier Safety Administration (FMCSA), DOT.

ACTION: Notice of final disposition; grant of exemption.

SUMMARY: The Federal Motor Carrier Safety Administration (FMCSA) announces its decision to grant Netradyne, Inc's. (Netradyne) application for a limited 5-year exemption to allow its Driveri® Dash Cam to be mounted lower in the windshield on commercial motor vehicles (CMV) than is currently permitted. The Agency has determined that lower placement of the Driveri® Dash Cam would not have an adverse impact on safety and that adherence to the terms and conditions of the exemption would likely achieve a level of safety equivalent to, or greater than, the level of safety provided by the regulation.

DATES: This exemption is effective December 18, 2020. The exemption expires December 15, 2025.

FOR FURTHER INFORMATION CONTACT: Mr. José R. Cestero, Vehicle and Roadside Operations Division, Office of Carrier, Driver, and Vehicle Safety, MC-PSV, (202) 366-5541, Federal Motor Carrier Safety Administration, 1200 New Jersey Avenue SE, Washington, DC, 20590-0001. If you have questions regarding viewing or submitting material to the docket, contact Docket Operations, (202) 366-9826.

SUPPLEMENTARY INFORMATION:

Background

FMCSA has authority under 49 U.S.C. 31136(e) and 31315 to grant exemptions from certain parts of the Federal Motor Carrier Safety Regulations (FMCSRs). FMCSA must publish a notice of each exemption request in the Federal Register (49 CFR 381.315(a)). The Agency must provide the public an opportunity to inspect the information relevant to the application, including any safety analyses that have been conducted. The Agency must also provide an opportunity for public comment on the request. The Agency reviews safety analyses and public comments submitted, and determines whether granting the exemption would likely achieve a level of safety equivalent to, or greater than, the level that would be achieved by the current regulation (49 CFR 381.305).

The decision of the Agency must be published in the Federal Register (49 CFR 381.315(b)) with the reasons for denying or granting the application and, if granted, the name of the person or class of persons receiving the exemption, and the regulatory provision from which the exemption is granted. The notice must also specify the effective period (up to 5 years) and explain the terms and conditions of the exemption. The exemption may be renewed (49 CFR 381.300(b)).

Netradyne's Application for Exemption

Netradyne applied for an exemption from 49 CFR 393.60(e)(1) to allow its Driveri® Dash Cam to be mounted lower in the windshield than is currently permitted by the Agency's regulations to utilize a mounting location that allows optimal functionality of the advance safety system supported by the device. A copy of the application is included in the docket referenced at the beginning of this notice. Section 393.60(e)(1)(i) of the FMCSRs prohibits obstruction of the driver's field of view by devices mounted at the top of the windshield. Antennas and similar devices must not be mounted more than 152 mm (6 inches) below the upper edge of the windshield, and must be outside the driver's sight lines to the road and highway signs and signals. However, § 393.60(e)(1)(i) does not apply to vehicle safety technologies, as defined in § 390.5, that include “a fleet related incident management system, performance or behavior management system, speed management system, forward collision warning or mitigation system, active cruise control system, and transponder.”

Section 393.60(e)(1)(ii) requires devices with vehicle safety technologies to be mounted (1) not more than 100 mm (4 inches) below the upper edge of the area swept by the windshield wipers, or (2) not more than 175 mm (7 inches) above the lower edge of the area swept by the windshield wipers, and (3) outside the driver's sight lines to the road and highway signs and signals.

Netradyne states that the functionality of its Driveri® Dash Cam includes the ability to capture and analyze distracted driving events along with providing in-cab audio alerts, following distance management, and detection of stop signs and traffic signals. Netradyne states that the proposed exemption will increase safety by providing these advance safety features on its customers' CMVs. Netradyne notes that it conducted pilot tests of the devices' functionality and found that there was no noticeable obstruction to the driver's normal sightlines to the road ahead, highway signs and, signals, or any mirrors.

The Driveri® Dash Cam, four-camera version housing, is approximately 190 mm (7.4 inches) wide by 118 mm (4.6 inches) tall and the two-camera version housing is 126 mm (4.9 inches) wide by 71 mm (2.8 inches) tall. The devices will be mounted in the approximate center of the top of the windshield such that the bottom edge of the camera housing is approximately 204 mm (8 inches) below the upper edge of the windshield wipers, outside of the driver's and passenger's normal sight lines to the road ahead, highway signs and signals, and all mirrors. This location will allow for optimal functionality of the advanced safety systems supported by the device. Without the proposed exemption, Netradyne states that its customers will not be able to install these devices in an optimal location on the windshield to maximize the effectiveness of the safety features of the technology. The exemption would apply to all CMVs equipped with Netradyne's Driveri® Dash Cam mounted on the windshield. Netradyne believes that mounting the system as described will maintain a level of safety that is equivalent to, or greater than, the level of safety achieved without the exemption.

Comments

FMCSA published a notice announcing receipt of the exemption application in the Federal Register on August 20, 2020, and requested public comment on the application (85 FR 51545).

The Agency received no comments addressing the exemption application.

FMCSA Decision

FMCSA has evaluated the Netradyne exemption application. The Driveri® Dash Cam, four-camera housing version, is approximately 4.6 inches tall while the two-camera housing version is 2.8 inches tall. Both camera versions are mounted near the top of the center of the windshield, with the bottom of the camera housing located approximately 8 inches below the top of the area swept by the windshield wipers. The Driveri® Dash Cam needs to be mounted in this location for optimal functionality of the advance safety system. The size of the Driveri® Dash Cam precludes mounting it (1) higher in the windshield, and (2) within 4 inches from the top of the area swept by the windshield wipers to comply with § 393.60(e)(1)(ii)(A).

The Agency believes that granting the temporary exemption to allow placement of the Driveri® Dash Cam lower than currently permitted by Agency regulations will provide a level of safety that is equivalent to, or greater than, the level of safety achieved without the exemption because (1) based on the technical information available, there is no indication that the Driveri® Dash Cam would obstruct drivers' views of the roadway, highway signs and signals surrounding traffic; (2) generally, trucks and buses have an elevated seating position that greatly improves the forward visual field of the driver, and any impairment of available sight lines would be minimal; and (3) the mounting location 8 inches below the upper edge of the windshield and out of the driver's normal sightline will be reasonable and enforceable at roadside. In addition, the Agency believes that use of Driveri® Dash Cam by fleets is likely to improve the overall level of safety for the motoring public. This action is consistent with previous Agency action permitting the placement of similarly-sized devices on CMVs outside the driver's sight lines to the road, and highway signs and signals. FMCSA is not aware of any evidence showing that installation of other vehicle safety technologies mounted on the interior of the windshield has resulted in any degradation in safety.

James W. Deck,
Deputy Administrator.

[FR Doc. 2020-27967 Filed 12-17-20; 8:45 am]

BILLING CODE 4910-EX-P